DEPARTMENT OF LABOR

Employment and Training Administration

[TA-W-62,483]

Vaisala, Inc./Tucson Operations, Tucson, Arizona; Notice of Termination of Investigation

Pursuant to section 221 of the Trade Act of 1974, as amended, an investigation was initiated on November 20, 2007 in response to a worker petition filed a company official on behalf of workers at Vaisala, Inc./Tucson Operations in Tucson, Arizona.

The petitioner has requested that the petition be withdrawn. Consequently, the investigation has been terminated.

Signed at Washington, DC, this 7th day of December, 2007.
Richard Church,
Certifying Officer, Division of Trade Adjustment Assistance.

[FR Doc. E7-24538 Filed 12-18-07; 8:45 am]

BILLING CODE 4510-FN-P